DEPARTMENT OF TRANSPORTATION

Pipeline and Hazardous Materials Safety Administration

[Docket No. PHMSA-2014-0018]

Pipeline Safety: Information Collection Activities, Revisions to Operator Identification (OPID) Assignment Request and Operator Registry Notification

AGENCY: Pipeline and Hazardous Materials Safety Administration (PHMSA), DOT.

ACTION: Notice and request for comments.

SUMMARY: On March 31, 2014, in accordance with the Paperwork Reduction Act of 1995, the Pipeline and Hazardous Materials Safety Administration (PHMSA) published a notice in the Federal Register (79 FR 18118) notifying the public of its intent to revise two forms under OMB Control Number 2137-0627, PHMSA F 1000.1—OPID Assignment Request and PHMSA F 1000.2—Operator Registry Notification, and its intention to request approval from the Office of Management and Budget (OMB) for revised information collection burdens.

PHMSA received one comment in response to that notice in support of the proposed changes. PHMSA is publishing this notice to acknowlege the received comment, provide the public with an additional 30 days to comment on the information collection referenced above, and announce that the Information Collection will be submitted to OMB for approval.

DATES: Comments on this notice must be received by July 31, 2014 to be assured of consideration.

FOR FURTHER INFORMATION CONTACT: Angela Dow by telephone at 202-366-1246, by fax at 202-366-4566, or by mail at DOT, PHMSA, 1200 New Jersey Avenue SE., PHP-30, Washington, DC 20590-0001.

ADDRESSES: You may submit comments identified by the docket number PHMSA-2014-0018 by any of the following methods:

• Fax: 1-202-395-5806.

• Mail: Office of Information and Regulatory Affairs (OIRA), Records Management Center, Room 10102 NEOB, 725 17th Street NW., Washington, DC 20503,

ATTN: Desk Officer for the U.S. Department of Transportation\PHMSA.

• Email: Office of Information and Regulatory Affairs, OMB, at the following email address: OIRA_Submission@omb.eop.gov.

Requests for a copy of the Information Collection should be directed to Angela Dow by telephone at 202-366-1246, by fax at 202-366-4566, by email at Angela.Dow1@dot.gov, or by mail at U.S. Department of Transportation, PHMSA, 1200 New Jersey Avenue SE., PHP-30, Washington, DC 20590-0001.

SUPPLEMENTARY INFORMATION: I. During the 60 day comment period, PHMSA received one comment from the Pipeline Safety Trust in support of the proposed changes. Specifically, the Pipeline Safety Trust supports collecting information on the descriptions of pipeline facilities and number of miles of pipeline from the operators on a state-by-state basis to make the information more useful to state regulators and the public.

II. The following information is provided for this information collection: (1) Title of the information collection; (2) OMB control number; (3) Current expiration date; (4) Type of request; (5) Abstract of the information collection activity; (6) Description of affected public; (7) Estimate of total annual reporting and recordkeeping burden; and (8) Frequency of collection. PHMSA requests comments on the following information collection, including the proposed revisions addressed in this notice. Copies of the proposed forms associated with this information collection can be found at Docket Number PHMSA-2014-0018.

Title: National Registry of Pipeline and LNG Operators.

OMB Control Number: 2137-0627.

Current Expiration Date: 12/31/2014.

Type of Request: Revision.

Abstract: The National Registry of Pipeline and LNG Operators serves as the storehouse for the reporting requirements for an operator regulated under or subject to reporting requirements of 49 CFR parts 191, 192, 193, or 195. PHMSA is seeking to revise the forms associated with assigning and maintaining OPID information, the Operator Assignment Request Form (PHMSA F 1000.1) and the Operator Registry Notification Form (PHMSA F 1000.2).

Affected Public: Natural Gas, LNG, and Liquid pipeline operators.

Annual Reporting and Recordkeeping Burden:

Total Annual Responses: 630.

Total Annual Burden Hours: 630.

Frequency of Collection: On occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC on June 25, 2014.
Jeffrey D. Wiese,
Associate Administrator for Pipeline Safety.

[FR Doc. 2014-15301 Filed 6-30-14; 8:45 am]

BILLING CODE 4910-60-P